DEPARTMENT OF COMMERCE

International Trade Administration

[C-475-837; C-489-832]

Carbon and Alloy Steel Wire Rod From Italy and Turkey: Alignment of Final Countervailing Duty Determinations With Final Antidumping Duty Determinations

AGENCY: Enforcement and Compliance, International Trade Administration, Department of Commerce.

SUMMARY: The Department of Commerce (the Department) is aligning the final determinations in the countervailing duty (CVD) investigations of carbon and alloy steel wire rod (wire rod) from Italy and Turkey with the final determinations in the companion antidumping duty (AD) investigations.

DATES: Applicable September 18, 2017.

FOR FURTHER INFORMATION CONTACT: John Corrigan and Yasmin Bordas at (202) 482-7438 and (202) 482-3813, respectively (Italy); Justin Neuman and Omar Qureshi at (202) 482-0486 and (202) 482-5307, respectively (Turkey), AD/CVD Operations, Enforcement and Compliance, International Trade Administration, U.S. Department of Commerce, 1401 Constitution Avenue NW., Washington, DC 20230.

SUPPLEMENTARY INFORMATION:

Background

On April 17, 2017, the Department initiated the CVD investigations of wire rod from Italy and Turkey.¹ Simultaneously, the Department initiated AD investigations of wire rod from Belarus, Italy, the Republic of Korea, the Russian Federation, South Africa, Spain, the Republic of Turkey, Ukraine, the United Arab Emirates, and the United Kingdom.² The CVD investigations and AD investigations cover the same class or kind of merchandise.

¹ See Carbon and Alloy Steel Wire Rod from Italy and Turkey: Initiation of Countervailing Duty Investigations, 82 FR 19213 (April 26, 2017).

² See Carbon and Alloy Steel Wire Rod from Belarus, Italy, the Republic of Korea, the Russian Federation, South Africa, Spain, the Republic of Turkey, Ukraine, United Arab Emirates, and United Kingdom: Initiation of Less-Than-Fair-Value Investigations, 82 FR 19207 (April 26, 2017).

Alignment With AD Final Determination

On September 5, 2017, the Department published the preliminary affirmative CVD determinations pertaining to wire rod from Italy and Turkey.³ On August 30, 2017, in accordance with section 705(a) of the Tariff Act of 1930, as amended (the Act), 19 CFR 351.210(b)(4)(i), and 351.210(i), Nucor Corporation, a petitioner in the instant investigations, timely requested alignment of the final CVD determinations with the final determinations in the related AD investigations of wire rod from Italy and Turkey.⁴ Therefore, in accordance with section 705(a)(1) of the Act and 19 CFR 351.210(b)(4)(i), we are aligning the final CVD determinations with the final AD determinations. Consequently, the final CVD determinations will be issued on the same date as the final AD determinations, which are currently scheduled to be issued no later than January 8, 2018,⁵ unless postponed.

³ See Carbon and Alloy Steel Wire Rod from Italy: Preliminary Affirmative Countervailing Duty Determination, 82 FR 41931 (September 5, 2017); see also Carbon and Alloy Steel Wire Rod from the Republic of Turkey: Preliminary Affirmative Countervailing Duty Determination and Preliminary Affirmative Critical Circumstances Determination, in Part, 82 FR 41929 (September 5, 2017).

⁴ See Letter to the Secretary re: Countervailing Duty Investigation of Carbon and Alloy Steel Wire Rod from Italy: Request to Align Countervailing Duty Final Determination with Antidumping Duty Final Determination, dated August 30, 2017; see also Letter to the Secretary re: Countervailing Duty Investigation of Carbon and Alloy Steel Wire Rod from the Republic of Turkey: Request to Align Countervailing Duty Final Determination with Antidumping Duty Final Determination, dated August 30, 2017.

⁵ This date reflects the next business day after the deadline of January 7, 2018. See Notice of Clarification: Application of “Next Business Day” Rule for Administrative Determination Deadlines Pursuant to the Tariff Act of 1930, As Amended, 70 FR 24533 (May 10, 2005).

This notice is issued and published pursuant to section 705(a)(1) of the Act and 19 CFR 351.210(g).

Dated: September 12, 2017.
Gary Taverman,
Deputy Assistant Secretary for Antidumping and Countervailing Duty Operations, performing the non-exclusive functions and duties for the Assistant Secretary for Enforcement and Compliance.

[FR Doc. 2017-19774 Filed 9-15-17; 8:45 am]

BILLING CODE 3510-DS-P